DEPARTMENT OF COMMERCE

National Oceanic and Atmospheric Administration

RIN 0648-XO24

Endangered and Threatened Species; Take of Anadromous Fish

AGENCY: National Marine Fisheries Service (NMFS), National Oceanic and Atmospheric Administration (NOAA), Commerce.

ACTION: Notice of receipt of a permit application; request for comments.

SUMMARY: Notice is hereby given that NMFS has received an application for a permit (permit 14579) to conduct steelhead rescue activities for population enhancement purposes from the Protected Resource Division of NMFS office in Long Beach (PRDLB), California. The requested permit would affect the Southern California Coast Distinct Population Segment of endangered steelhead trout (Oncorhynchus mykiss). The public is hereby notified of the availability of the permit application for review and comment before NMFS either approves or disapproves the application.

DATES: Written comments on the permit application must be received at the appropriate address or fax number (see ADDRESSES) on or before April 27, 2009.

ADDRESSES: Written comments on the permit application should be sent to Matt McGoogan, Protected Resources Division, NMFS, 501 W. Ocean Blvd., Suite 4200, Long Beach, CA 90802. Comments may also be sent using email (FRNpermits.lb@noaa.gov) or fax (562) 980-4027. The permit application is available for review, by appointment, at the foregoing address and is also available for review online at the Authorizations and Permits for Protected Species website at https://apps.nmfs.noaa.gov.

FOR FURTHER INFORMATION CONTACT: Matt McGoogan at phone number (562) 980-4026 or e-mail: matthew.mcgoogan@noaa.gov.

SUPPLEMENTARY INFORMATION:

Authority

Issuance of permits, as required by the Endangered Species Act of 1973 (16 U.S.C. 1531B1543) (ESA), is based on a finding that such permits: (1) are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222-226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NMFS.

Permit Application Received

PRDLB has applied for a permit to conduct steelhead rescue activities for the Southern California Coast (SCC) Distinct Population Segment (DPS) of endangered steelhead (Oncorhynchus mykiss) which includes coastal streams from the Santa Maria River south to the Mexican border. The purpose of this permit is for the enhancement of survival of endangered steelhead in the SCC DPS. During the dry season and prolonged periods of below normal rainfall the instream areas harboring endangered steelhead can experience dewatering and desiccation. Because steelhead within drying sections of streams can perish, possessing the legal authority to capture and then relocate at-risk individuals would be valuable should biotic and abiotic factors suggest rescue of steelhead is warranted.

Criteria have been defined in the application to provide an objective biological basis for determining whether a steelhead rescue is reasonable and necessary to enhance the population. These criteria include instream characteristics and conditions within the affected area, the cause for any observed or projected streamflow decreases or dewatering, the availability of suitable instream areas to safely harbor the rescued steelhead (i.e., relocation areas), and the abundance of steelhead within the affected area. The application specifies that the permit would be applicable only in the following situations: when a rapid response is crucial to steelhead survival, and when mortality of steelhead, if not rescued and relocated, is reasonably certain; and, when take authorization has not been granted, or is not expected or warranted, under Section 7 or Section 10 of the ESA. The application defines criteria to increase the likelihood that the permit would not be misused.

NMFS-specific responsibilities under the rescue and relocation activities involve: (1) serving as the permit holder, principal investigator, and the primary contact, (2) designating and collaborating with the California Department of Fish and Game (CDFG) as a co-investigator, (3) determining the need for a steelhead rescue and relocation, and (4) providing written authorization for undertaking steelhead rescue and relocation. NMFS would retain discretion as principal investigator under the permit for determining, either individually or in collaboration with CDFG, whether a steelhead rescue and relocation are warranted using the established rescue criteria.

With regard to authorizing steelhead rescue and relocation, the permit would grant NMFS the authority to legally allow its own qualified biologists or those of the CDFG to conduct and oversee operations to capture and relocate steelhead when an imminent threat to the survival of individuals exists and when the rescue criteria are met. Once the determination has been made that a steelhead rescue is needed, NMFS will coordinate the rescue and relocation operation with its own biologists and (or) those of the CDFG.

The application identifies specific responsibilities for CDFG related to the rescue and relocation activities. CDFG will notify the designated NMFS point of contact of the need to rescue and relocate steelhead prior to implementing any rescue and relocation operation. The notification will involve a letter that provides the following information: A description of the need to rescue steelhead, including an assessment of the applicability of the rescue criteria; the name of the waterway where the subject rescue and relocation would occur; a brief description of the specific conditions believed to be prompting the rescue (e.g., naturally dry conditions, or anthropogenic activity causing the reduction in flow); an estimate of the number of steelhead that are expected to be rescued; the name of the waterway and location (GPS coordinates) where the collected steelhead would be relocated; and, a description of the plan that will be implemented to monitor the status of the relocated individuals over time.

A permit duration of 10 years is requested to cover the described activities from 6/1/2009 to 12/31/2019. For this 10 year program, PRDLB has requested an annual non-lethal take of up to 2000 juvenile steelhead and 100 adult steelhead. An annual collection and possession of up to 100 steelhead tissue samples is being requested as well as permission to recover up to 20 carcasses per year (if found). All samples and carcasses would be sent to NMFS science center for genetic research and processing. No intentional lethal take is being proposed for this permit. The unintentional lethal take (mortalities) that may occur during rescue activities is up to100 juvenile steelhead per year or no more than 5 percent of the total captured. See the attached documents in the methods section of the permit for a complete project description including tables and figures.

Dated: March 20, 2009.
Angela Somma,
Chief, Endangered Species Division, Office of Protected Resources, National Marine Fisheries Service.

[FR Doc. E9-6779 Filed 3-25-09; 8:45 am]

BILLING CODE 3510-22-S